NUCLEAR REGULATORY COMMISSION

[Docket No. 50-285]

Omaha Public Power District; Notice of Withdrawal of Application for Amendment to Facility Operating License

The U.S. Nuclear Regulatory Commission (the Commission) has granted the request of Omaha Public Power District (the licensee) to withdraw its March 18, 1998, application for proposed amendment to Facility Operating License No. DPR-40 for the Fort Calhoun Station, Unit 1, located in Washington County, Nebraska.

The proposed amendment would have revised Technical Specifications 2.15(4) and 2.15(5) to identify (1) all indication functions and control functions required for the alternate (remote) shutdown system (alternate shutdown panel and auxiliary feedwater panel), (2) panel locations of the functions, and (3) the number of channels required.

The Commission had previously issued a Notice of Consideration of Issuance of Amendment published in the Federal Register on February 9, 2000 (65 FR 6408). However, by letter dated March 1, 2000, the licensee withdrew the proposed change.

For further details with respect to this action, see the application for amendment dated March 18, 1998, and the licensee's letter dated March 1, 2000, which withdrew the application for license amendment. The above documents are available for public inspection at the Commission's Public Document Room, the Gelman Building, 2120 L Street, NW., Washington, DC, and accessible electronically through the ADAMS Public Electronic Reading Room link at the NRC Web site (http://www.nrc.gov).

Dated at Rockville, Maryland, this 15th day of March 2000.
For the Nuclear Regulatory Commission.
L. Raynard Wharton,
Project Manager, Section 2, Project Directorate IV and Decommissioning, Division of Licensing Project Management, Office of Nuclear Reactor Regulation.

[FR Doc. 00-6915 Filed 3-20-00; 8:45 am]

BILLING CODE 7590-01-P